DEPARTMENT OF TRANSPORTATION

Federal Railroad Administration

[Docket No. FRA-2007-27155]

Proposed Sunset of Waivers Granted Under 49 CFR Part 229 and Establishment of Docket for Collection of Waivers and Documents Generated by the Locomotive Safety Standards Working Group

AGENCY: Federal Railroad Administration (FRA), DOT.

ACTION: Notice of proposed sunset and establishment of public docket.

SUMMARY: FRA is notifying the public that waivers granted relative to the provisions of 49 CFR Part 229, Railroad Locomotive Safety Standards, may be affected by potential revisions to the regulation. FRA is requesting that grantees (primarily railroads) submit current waivers for consideration in light of potential revisions to the regulation, and is establishing a docket to collect the waivers along with other documents generated by the Locomotive Safety Standards Working Group (LSSWG) as part of the Railroad Safety Advisory Committee (RSAC) process. Note that this request pertains to waivers from the provisions of 49 CFR Part 229 only, and not to waivers of any other of the regulations administered by FRA.

FOR FURTHER INFORMATION CONTACT: Charles L. Bielitz, Mechanical Engineer, FRA, 1120 Vermont Avenue NW., Mail Stop 25, Washington, DC 20590 (Telephone 202-493-6314), or Michael Masci, Trial Attorney, Office of Chief Counsel, FRA, 1120 Vermont Avenue NW., Mail Stop 10, Washington, DC 20590 (Telephone 202-493-6037).

ADDRESSES: Submissions: Submissions related to Docket Number FRA-2007-27155 may be submitted by any of the following methods:

• Web site: http://dms.dot.gov. Follow the instructions for submissions on the DOT electronic docket site;

• Fax: 202-493-2251;

• Mail: Docket Management Facility; U.S. Department of Transportation, 400 Seventh Street, SW., Nassif Building, Room PL-401, Washington, DC 20590-001;

• Hand delivery: Room PL-401 on the plaza level of the Nassif Building, 400 Seventh Street, SW., Washington, DC between 9 a.m. and 5 p.m. Monday through Friday, except Federal Holidays; or

• Federal rulemaking portal: Go to http://www.regulations.gov. Follow the online instructions for submissions.

Instructions: All submissions must include the agency name and docket number for this notice. Note that all submissions received will be posted to http://dms.dot.gov without change, including any personal information. Please see the general information heading in the SUPPLEMENTARY INFORMATION section of this document for Privacy Act information related to submitted comments or materials.

Docket: For access to the docket to read background documents or submissions received, go to http://dms.dot.gov at any time, or visit PL-401 on the plaza level of the Nassif Building, 400 Seventh Street, SW., Washington, DC, between 9 a.m. and 5 p.m. Monday through Friday, except Federal Holidays.

SUPPLEMENTARY INFORMATION: On February 22, 2006, FRA announced it is seeking input through the RSAC for potential revision of the Locomotive Safety Standards contained in 49 CFR Part 229. Although these standards have been the subject of a series of modifications, the basic text of the rule has remained largely unchanged since promulgation in 1980. In section 229.19, titled “Prior waivers,” the existing regulation states: “All waivers of every form and type from any requirement of any order or regulation implementing the Locomotive Inspection Act, applicable to one or more locomotives, except those propelled by steam power, shall lapse on August 31, 1980, unless a copy of the grant of waiver is filed prior to that date with the Office of Safety, RRS-23, Federal Railroad Administration.” If the standards are modified, FRA foresees including a similar requirement to terminate all Part 229 waivers shortly after issuance of the revised rule, unless they are re-registered with FRA by a similar process. An opportunity to comment on the proposed sunset regulation will be provided at a later time, prior to the issuance of a final rule. To conform with current Safety Board practice that limits relief to a 5-year term or less, all current waivers of 49 CFR Part 229 that are not already term-limited shall be terminated 5 years after re-registration. Termination dates of waivers already term-limited will not be changed. At the end of the 5-year period, the Safety Board may grant a formal request for extension, pursuant to 49 CFR Part 211.

FRA is requesting that grantees submit all current waivers of Federal regulations contained in 49 CFR 229 if there is a need for the waivers to continue. Anticipating the sunset of these waivers, FRA hopes to address ongoing industry needs and maximize the effectiveness of the current potential rulemaking by considering potential revisions in light of current waivers. Where appropriate, FRA (utilizing the RSAC process) will consider whether potential revisions of Part 229 can safely accommodate the situation faced by the railroad without the need for a waiver. Where this is not appropriate, including situations that are too specific to merit a general accommodation, FRA will retain the waivers submitted at this time and forward them into the docket of waivers to be continued beyond the implementation of the potential revisions to 49 CFR Part 229. Such waivers will not need to be resubmitted if a final rule is implemented. Accordingly, railroads and other parties that have waiver(s) of any portion of 49 CFR Part 229 that they wish to extend after adoption of revised Locomotive Safety Standards shall file a copy of the letter granting the waiver, together with a cover letter referencing this docket number, within 90 days of the date of this notice.

This notice establishes docket number FRA-2007-27155 for collection of documents related to the LSSWG's activities. The docket will be utilized to collect copies of granted waivers submitted pursuant to this notice and other documents generated during the RSAC process, making them available to the public.

Anyone is able to search all comments received into any of our dockets by the name of the individual submitting the comment (or signing the comment, if submitted on behalf of an association, business, labor union, etc.). You may review DOT's complete Privacy Act Statement in the Federal Register published on April 11, 2000 (Volume 665, Number 7, Pages 19477-78). The statement may also be found at http://dms.dot.gov.

Issued in Washington, DC on February 23, 2007.
Grady C. Cothen, Jr.,
Deputy Associate Administrator for Safety Standards and Program Development.

[FR Doc. E7-3448 Filed 2-27-07; 8:45 am]

BILLING CODE 4910-06-P